DEPARTMENT OF COMMERCE

International Trade Administration

[A-570-970]

Multilayered Wood Flooring From the People's Republic of China: Final Determination of Sales at Less Than Fair Value

AGENCY: Import Administration, International Trade Administration, Department of Commerce.

DATES: Effective Date: October 18, 2011.

SUMMARY: On May 26, 2011, the Department of Commerce (“Department”) published its preliminary determination of sales at less than fair value (“LTFV”) in the antidumping investigation of multilayered wood flooring from the People's Republic of China (“PRC”).¹ On June 27, 2011, the Department published its amended preliminary determination of sales at LTFV in the antidumping investigation of multilayered wood flooring from the PRC.² The Department invited interested parties to comment on the Preliminary Determination. Based on the Department's analysis of the comments received, the Department has made changes from the Preliminary Determination. The Department determines that multilayered wood flooring from the PRC is being, or is likely to be, sold in the United States at LTFV, as provided in section 735 of the Tariff Act of 1930, as amended (the “Act”). The final dumping margins for this investigation are listed in the “Final Determination” section below.

¹ See Multilayered Wood Flooring from the People's Republic of China: Preliminary Determination of Sales at Less Than Fair Value, 76 FR 30656 (May 26, 2011) (“Preliminary Determination”).

² See Multilayered Wood Flooring from the People's Republic of China: Amended Preliminary Determination of Sales at Less Than Fair Value, 76 FR 37316 (June 27, 2011) (“Amended Preliminary Determination”).

FOR FURTHER INFORMATION CONTACT: Charles Riggle, John Hollwitz, Brandon Petelin or Erin Kearney, AD/CVD Operations, Office 4, Import Administration, International Trade Administration, U.S. Department of Commerce, 14th Street and Constitution Avenue, NW., Washington, DC 20230; telephone: (202) 482-0650, (202) 482-2336, (202) 482-8173 or (202) 482-0167, respectively.

SUPPLEMENTARY INFORMATION:

Background

The Department published its Preliminary Determination of sales at LTFV and postponement of the final determination on May 26, 2011. On May 31, 2011, Riverside Plywood Corporation, Samling Elegant Living Trading (Labuan) Limited, Baroque Timber Industries (Zhongshan) Co. Ltd., Samling Global USA, Inc., Samling Riverside Co., Ltd. and Suzhou Times Flooring Co., Ltd.(collectively, the “Samling Group”) and Vicwood Industry (Suzhou) Co., Ltd. (“Vicwood”) submitted timely ministerial error allegations. The Department published its Amended Preliminary Determination of sales at LTFV on June 27, 2011. Following the release of Amended Preliminary Determination, on June 23, 2011, Shanghai Lizhong Wood Products Co., Ltd. (“Lizhong”) filed a submission requesting to correct Shanghai Lizhong Wood Products Co., Ltd.'s name as specified in its Separate Rate Application, or at minimum to instruct U.S Customs and Border Protection (“CBP”) of the correct name for Lizhong. See Separate Rate section below.

Between June 2, 2011 and July 1, 2011, the Department conducted verification of mandatory respondents Zhejiang Yuhua Timber Co., Ltd. (“Yuhua”), Zhejiang Layo Wood Industry Co., Ltd. (“Layo Wood”), and the Samling Group.³ On July 6, 2011, the Department received a supplemental questionnaire response from Vicwood.

³ See the “Verification” section below.

The Coalition for American Hardwood Parity (“Petitioner”), Style Limited, Shanghai Lizhong Wood Products Co., Ltd/The Lizhong Wood Industry Limited Company of Shanghai (“Lizhong”), Lumber Liquidators Services, LLC (“Lumber Liquidators”), Home Legend LLC (“Home Legend”), Armstrong Wood Products (Kunshan) Co., Ltd. (“Armstrong Kunshan”), Fine Furniture (Shanghai) Limited (“Fine Furniture”), Chinafloors Timber (China) Co., Ltd. (“Chinafloors”), the Government of the People's Republic of China (“GOC”), Yuhua, Samling Group, and Layo Wood submitted case briefs on August 4, 2011. On August 9, 2011, Petitioner, Style Limited, Lumber Liquidators, Home Legend, Armstrong Kunshan, Fine Furniture, Yuhua, Samling Group, and Layo Wood filed rebuttal briefs. In addition, on August 15, 2011, respondent Layo Wood resubmitted its August 4, 2011 case brief.⁴ The Department conducted a public hearing on August 24, 2011.

⁴ Letter from Zhejiang Layo Wood Industry Co., Ltd. to Secretary of Commerce, “Multilayered Wood Flooring From the People's Republic of China: Resubmission of August 5, 2011 Case Brief” (Aug. 15, 2011).

Period of Investigation

The period of investigation (“POI”) is April 1, 2010, through September 30, 2010. This period corresponds to the two most recent fiscal quarters prior to the month of the filing of the petition, which was October 2010.⁵

⁵ See 19 CFR 351.204(b)(1).

Analysis of Comments Received

All issues raised in the case and rebuttal briefs by parties to this investigation, as well as comments received pursuant to the Department's requests are addressed in the Issues and Decisions Memorandum.⁶ A list of the issues which the parties raised and to which the Department responds in the Issues and Decision Memorandum is attached to this notice as Appendix I. The Issues and Decision Memorandum is a public document and is on file electronically via Import Administration's Antidumping and Countervailing Duty Centralized Electronic Service System (IA ACCESS). Access to IA ACCESS is available in the Central Records Unit (CRU), room 7046 of the main Department of Commerce building. In addition, a complete version of the Issues and Decision Memorandum can be accessed directly on the Internet at http://www.trade.gov/ia/. The signed Issues and Decision Memorandum and the electronic versions of the Issues and Decision Memorandum are identical in content.

⁶ See Memorandum from Christian Marsh, Deputy Assistant Secretary for Antidumping and Countervailing Duty Operations, to Ronald K. Lorentzen, Deputy Assistant Secretary for Import Administration, “Issues and Decision Memorandum for the Final Determination in the Antidumping Duty Investigation of Wood Flooring from the People's Republic of China” (October 11, 2011) (“Issues and Decision Memorandum”).

Changes Since the Preliminary Determination

Changes Applicable to Multiple Companies

1. The Department changed the surrogate value (“SV”) of non-coniferous, non-tropical core veneer inputs from Philippine Harmonized Tariff Schedule (“HTS”) 4408.90.10 to Philippine HTS 4408.90.90.⁷

⁷ See Issues and Decision Memorandum at Comment 16; see also Memorandum regarding: Antidumping Duty Investigation of Multilayered Wood Flooring from the People's Republic of China: Final Surrogate Value Memorandum dated concurrently with this memorandum (“Final Surrogate Value Memorandum”).

2. The Department changed the SV for high density fiberboard inputs from Philippine HTS 4411.19 to a simple average of Philippine HTS 4411.11 and Philippine HTS 4411.21.⁸

⁸ See Issues and Decision Memorandum at Comment 20; see also Final Surrogate Value Memorandum.

3. To value plywood, the Department is relying on the Philippines Department of Environment and Natural Resources, Forest Management Bureau (“FMB”)'s 2009 price data for lauan plywood, inflated to the POI. In doing so, the Department is averaging the prices of 4.7625 millimeter (mm) thick, 6.35 mm thick, and 12.7 mm thick plywood for all of 2009.⁹

⁹ See Issues and Decision Memorandum at Comment 13; see also Final Surrogate Value Memorandum.

4. The Department is valuing the Samling Group's finish inputs (i.e., top coat and base coat) and Layo Wood's paint inputs using POI Philippine National Statistics Office (“NSO”) data from the eight-digit Philippine HTS category 3208.20.90.¹⁰

¹⁰ See Issues and Decision Memorandum at Comment 19; see Memorandum regarding: Antidumping Duty Investigation of Multilayered Wood Flooring from the People's Republic of China: Final Determination Analysis Memorandum for the Samling Group, dated concurrently with this memorandum (“Samling's Final Analysis Memo”); see Memorandum regarding: Antidumping Duty Investigation of Multilayered Wood Flooring from the People's Republic of China: Final Determination Analysis Memorandum for Layo Wood, dated concurrently with this memorandum (“Layo Wood's Final Analysis Memo”).

5. The Department changed the data it relied upon to calculate a surrogate labor rate from 2006 “compensation of employees” data to 2002 “labor cost” data.¹¹

¹¹ See Issues and Decision Memorandum at Comment 6; see also Final Surrogate Value Memorandum.

6. The Department changed the financial statements used to calculate financial ratios from four 2009 statements of Philippine plywood producers to three 2010 statements of Philippine plywood producers.¹²

¹² See Issues and Decision Memorandum at Comment 1; see also Final Surrogate Value Memorandum.

7. The Department changed the source of information it used to calculate the truck rate from Indian truck rate data to the Confederation of Truckers Association of the Philippines, Inc.¹³

¹³ See Issues and Decision Memorandum at Comment 18; see also Final Surrogate Value Memorandum.

8. The Department stated in its Preliminary Surrogate Value Memorandum that it was relying upon the International Monetary Fund's (“IMF”) Wholesale Price Index (“WPI”) for the Philippines and India to reflect inflation or deflation of non-contemporaneous surrogate values.¹⁴ The Department, instead, inadvertently used the IMF's Consumer Price Index (“CPI”) for the Philippines and India in its surrogate value calculations. Although no parties commented on this issue, the Department has changed the indices it used in inflation and deflation calculations for the final determination, to reflect its originally intended methodology. Due to changes in IMF index reporting terminology, the Department finds that the closest available index for the Philippines and India is the Producer Price Index (“PPI”). Therefore, the Department has calculated the inflation or deflation of non-contemporaneous surrogate values for the final determination based on PPI.¹⁵

¹⁴ See Memorandum regarding: Antidumping Duty Investigation of Multilayered Wood Flooring from the People's Republic of China: Preliminary Surrogate Value Memorandum, dated May 19, 2011, (“Preliminary Surrogate value Memorandum”) at 2-3.

¹⁵ See Final Surrogate Value Memorandum.

9. In the Preliminary Determination, the Department used an electricity rate with an effective date of 2009, and inflated it to the POI. For the final determination, the Department finds that inflating the electricity rate does not represent the best available information because utility rates generally represent the current rate as of the listed effective date. Therefore, the Department did not inflate the electricity value to the POI for the final determination.¹⁶

¹⁶ See Final Surrogate Value Memorandum.

10. For the final determination the Department we have valued Layo Wood's byproducts using a simple average of the surrogate values for Layo Wood's wood veneer and wood core inputs.

Changes Specific to Yuhua

We made changes based on verification findings.¹⁷

¹⁷ See Yuhua's Verification Report; see Memorandum Regarding: Antidumping Duty Investigation of Multilayered Wood Flooring from the People's Republic of China: Final Determination Analysis Memorandum for Yuhua, dated concurrently with this memorandum (“Yuhua's Final Analysis Memo”).

Changes Specific to Layo Wood

1. The Department changed the SV for Layo Wood's glue inputs from Philippine HTS 3506.99 to Philippine HTS 3909.20.90.¹⁸

¹⁸ See Issues and Decision Memorandum at Comment 25; see Layo Wood's Final Analysis Memo.

2. The Department changed the rate used to calculate the density of Layo Wood's packing fiberboard inputs from 740 kg per cubic meter to 650 kg per cubic meter.¹⁹

¹⁹ See Issues and Decision Memorandum at Comment 30; see Layo Wood's Final Analysis Memo.

Changes Specific to Samling Group

1. The Department is valuing the Samling Group's glue input using POI NSO data from the eight-digit Philippine HTS category 3909.10.90, “other; urea formaldehyde adhesive.” ²⁰

²⁰ See Issues and Decision Memorandum at Comment 32; see Samling's Final Analysis Memo.

2. The Department is valuing certain Samling veneers using 2009 NSO data for Philippine HTS category 4408.39.90, which covers tropical wood veneers.²¹

²¹ See Issues and Decision Memorandum at Comment 31; see Samling's Final Analysis Memo.

3. The Department is valuing the Samling Group's corrugated cardboard inputs using POI NSO data from the six-digit Philippine HTS category 4808.10, “Corrugated paper and paperboard, whether or not perforated.” ²²

²² See Issues and Decision Memorandum at Comment 35; see also Samling's Final Analysis Memo.

4. The Department is valuing the Samling Group's label inputs using POI NSO data from the six-digit Philippine HTS category 4811.41, “Self-adhesive.” ²³

²³ See Issues and Decision Memorandum at Comment 33; see also Samling's Final Analysis Memo.

5. The Department is valuing certain market economy purchases using the corrected values reported by the Samling Group at the verification of Baroque Timber Industries (Zhongshan) Co., Ltd.²⁴

²⁴ See Samling's Final Analysis Memo.

6. The Department has reduced the Samling Group's reported gross unit U.S. price by Samling's costs associated with U.S. inland freight from the warehouse to customer (i.e., we reduced the reported gross unit price by the INLFWCU field).²⁵

²⁵ See Issues and Decision Memorandum at Comment 38; see Samling's Final Analysis Memo.

7. The Department is treating freight revenue as an offset to freight costs rather than as an addition to U.S. price.²⁶

²⁶ See Issues and Decision Memorandum at Comment 39; see Samling's Final Analysis Memo.

8. The Department adjusted the Samling Group's indirect selling expense ratio to include the POI total reserve for bad debt expense.²⁷

²⁷ See Issues and Decision Memorandum at Comment 40; see Samling's Final Analysis Memo.

Scope of the Investigation ²⁸

²⁸ See Memorandum to Christian Marsh through Susan Kuhbach and Nancy Decker from Joshua Morris “Multilayered Wood Flooring from the People's Republic of China; Scope,” dated May 19, 2011.

Multilayered wood flooring is composed of an assembly of two or more layers or plies of wood veneer(s) ²⁹ in combination with a core. The several layers, along with the core, are glued or otherwise bonded together to form a final assembled product. Multilayered wood flooring is often referred to by other terms, e.g., “engineered wood flooring” or “plywood flooring.” Regardless of the particular terminology, all products that meet the description set forth herein are intended for inclusion within the definition of subject merchandise.

²⁹ A “veneer” is a thin slice of wood, rotary cut, sliced or sawed from a log, bolt or flitch. Veneer is referred to as a ply when assembled.

All multilayered wood flooring is included within the definition of subject merchandise, without regard to: dimension (overall thickness, thickness of face ply, thickness of back ply, thickness of core, and thickness of inner plies; width; and length); wood species used for the face, back and inner veneers; core composition; and face grade. Multilayered wood flooring included within the definition of subject merchandise may be unfinished (i.e., without a finally finished surface to protect the face veneer from wear and tear) or “prefinished” (i.e., a coating applied to the face veneer, including, but not exclusively, oil or oil-modified or water-based polyurethanes, ultra-violet light cured polyurethanes, wax, epoxy-ester finishes, moisture-cured urethanes and acid-curing formaldehyde finishes). The veneers may be also soaked in an acrylic-impregnated finish. All multilayered wood flooring is included within the definition of subject merchandise regardless of whether the face (or back) of the product is smooth, wire brushed, distressed by any method or multiple methods, or hand-scraped. In addition, all multilayered wood flooring is included within the definition of subject merchandise regardless of whether or not it is manufactured with any interlocking or connecting mechanism (for example, tongue-and-groove construction or locking joints). All multilayered wood flooring is included within the definition of the subject merchandise regardless of whether the product meets a particular industry or similar standard.

The core of multilayered wood flooring may be composed of a range of materials, including but not limited to hardwood or softwood veneer, particleboard, medium-density fiberboard (“MDF”), high-density fiberboard (“HDF”), stone and/or plastic composite, or strips of lumber placed edge-to-edge.

Multilayered wood flooring products generally, but not exclusively, may be in the form of a strip, plank, or other geometrical patterns (e.g., circular, hexagonal). All multilayered wood flooring products are included within this definition regardless of the actual or nominal dimensions or form of the product.

Specifically excluded from the scope are cork flooring and bamboo flooring, regardless of whether any of the sub-surface layers of either flooring are made from wood. Also excluded is laminate flooring. Laminate flooring consists of a top wear layer sheet not made of wood, a decorative paper layer, a core-layer of high-density fiberboard, and a stabilizing bottom layer.

Imports of the subject merchandise are provided for under the following subheadings of the Harmonized Tariff Schedule of the United States (“HTSUS”): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.3175; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

In addition, imports of subject merchandise may enter the United States under the following HTSUS subheadings: 4409.10.0500; 4409.10.2000; 4409.29.0515; 4409.29.0525; 4409.29.0535; 4409.29.0545; 4409.29.0555; 4409.29.0565; 4409.29.2530; 4409.29.2550; 4409.29.2560; 4418.71.1000; 4418.79.0000; and 4418.90.4605.

While HTSUS subheadings are provided for convenience and customs purposes, the written description of the subject merchandise is dispositive.

Scope Comments

Scope Comments

Following the Preliminary Determination, on May 19, 2011, the Department issued a decision memorandum addressing multiple scope issues in this and the concurrent CVD investigation of wood flooring from the PRC. See Memorandum to Christian Marsh, “Scope” (May 19, 2011) (“Scope Memo”). We sought comments on the scope in both the AD and CVD cases. See Letter to All Interested Parties from Nancy Decker, Program Manager, Office 1, AD/CVD Operations, Import Administration, “RE: Antidumping and Countervailing Duty Investigations: Multilayered Wood Flooring from the People's Republic of China,” (May 25, 2011).

In response, interested parties filed scope-related comments in submissions on June 6, 2011, June 14, 2011, and June 15, 2011, as well as in case briefs on August 4, 2011, and rebuttal briefs on August 8, 2011, and August 9, 2011. Additionally, a scope-related submission was received the same day the Scope Memo was released and, therefore, was not analyzed in the Scope Memo, but is addressed in this final determination. Based on our analysis of all the comments, we have changed the scope to eliminate references to certain HTSUS numbers. For a complete discussion of this change, as well as a summary of the parties' comments and the Department's positions, see the Issues and Decision Memorandum.

Verification

As provided in section 782(i) of the Act, the Department verified the information submitted by Yuhua, Layo Wood, and the Samling Group for use in its final determination. The Department used standard verification procedures, including examination of relevant accounting and production records and original source documents provided by the respondents.³⁰

³⁰ See Memorandum from Brandon Petelin, International Trade Analyst, AD/CVD Operations, Office 4, to the File, Verification of Constructed Export Sales (“CEP”) for Baroque Timber Industries (Zhongshan) Co., Ltd. (“BTI”), Riverside Plywood Corporation (“RPC”), Samling Elegant Living Trading (Labuan) Limited (“SELT”), Samling Riverside Co., Ltd.(“SR”), and Suzhou Times Flooring Co., Ltd. (“STF”) (collectively, the “Samling Group”) at the headquarters of its U.S. affiliate (July 22, 2011); Memorandum from Robert Greger, Senior International Trade Accountant, AD/CVD Operations, Office 4, to the File, Verification of Constructed Export Sales (“CEP”) for Baroque Timber Industries (Zhongshan) Co., Ltd. (“BTI”), Riverside Plywood corporation (“RPC”), Samling Elegant Living Trading (Labuan) Limited (“SELT”), Samling Riverside Co., Ltd. (“SR”), and Suzhou Times Flooring Co., Ltd. (“STF”) (collectively, the “Samling Group”) at Samling Global USA, Inc. (“SGUSA”) (July 22, 2011); Memorandum from Brandon Farlander, Senior International Trade Analyst, AD/CVD Operations, Office 4, to the File, Verification of the Questionnaire Responses of Zhejiang Yuhua Timber Co., Ltd (“Yuhua”) (July 21, 2011) (“Yuhua's Verification Report”); Memorandum from Brandon Farlander, Senior International Trade Analyst, AD/CVD Operations, Office 4, to the File, Verification of the Sales and Factors Response of Zhejiang Layo Wood Industry Co., Ltd., in Less than Fair Value Investigation of Multilayered Wood Flooring from the People's Republic of China (July 22, 2011); Memorandum from Brandon Petelin, International Trade Analyst, AD/CVD Operations, Office 4, to the File, Verification of Sales and Factors Response of Baroque Timber Industries (Zhongshan) Co., Ltd. (“BTI”) and Samling Elegant Living Trading (Labuan) Limited (“SELT”) in the Less-than-Fair-Value Investigation of Multilayered Wood Flooring (“Wood Flooring”) from the People's Republic of China (“PRC”) (July 22, 2011); Memorandum from Brandon Petelin, International Trade Analyst, AD/CVD Operations, Office 4, to the File, Verification of Sales and Factors Response of Riverside Plywood Corporation (“RPC”) and Samling Riverside Co., Ltd. (“SR”) in the Less-than-Fair-Value Investigation of Multilayered Wood Flooring (“Wood Flooring”) from the People's Republic of China (“PRC”) (July 22, 2011).

Non-Market Economy Country

The Department considers the PRC to be a non-market economy (“NME”) country. In accordance with section 771(18)(C)(i) of the Act, any determination that a foreign country is an NME country shall remain in effect until revoked by the administering authority. The Department has not revoked the PRC's status as an NME country. No party has challenged the designation of the PRC as an NME country in this investigation. Therefore, the Department continues to treat the PRC as an NME for purposes of this final determination.

Surrogate Country

In the preliminary determination, the Department stated that it selected the Philippines as the appropriate surrogate country to use in this investigation pursuant to section 773(c)(4) of the Act based on the following: (1) It is at a similar level of economic development; (2) it is a significant producer of comparable merchandise; and (3) we have reliable data from the Philippines that we can use to value the FOPs.³¹ The Department has not made changes to findings with respect to the selection of a surrogate country for the final determination.

³¹ See Memorandum to Abdelali Elouaradia from Drew Jackson, Multilayered Wood Flooring from the People's Republic of China: Surrogate Country Memorandum (May 19, 2011).

Separate Rate Companies

In proceedings involving NME countries, the Department holds a rebuttable presumption that all companies within the country are subject to government control and, thus, should be assessed a single antidumping duty rate. It is the Department's policy to assign all exporters of the subject merchandise in an NME country this single rate unless an exporter can demonstrate that it is sufficiently independent so as to be entitled to a separate rate.³²

³² See Notice of Final Determination of Sales at Less Than Fair Value: Sparklers from the People's Republic of China, 56 FR 20588 (May 6, 1991), and accompanying Issues and Decision Memorandum at Cmt. 1; as further developed in Notice of Final Determination of Sales at less Than Fair Value Silicon Carbide from the People's Republic of China, 59 FR 22585, 22587 (May 2, 1994).

In the instant investigation, the Department received timely-filed separate rate applications (“SRAs”) from 74 companies (“Separate Rate Applicants”).³³ In the Preliminary Determination, the Department found that twelve wholly foreign-owned companies,³⁴ demonstrated eligibility for separate rate status.³⁵ In addition, the Department found that sixty-two of the separate-rate companies that are either joint ventures between Chinese and foreign companies or are wholly Chinese-owned companies demonstrated eligibility for separate rate status. Since the publication of the Preliminary Determination, no party has commented on the eligibility of the Separate Rate Applicants for separate-rate status. However, the Department corrected the name of one of the separate rate applicants. The Department has changed the incorrect name of “Shanghai Lizhong Wood Products Co., Ltd. (“Lizhong”)” to the correct name of “Shanghai Lizhong Wood Products Co., Ltd. also known as The Lizhong Wood Industry Limited Company of Shanghai (“Lizhong”).” ³⁶

³³ The 74 separate-rate applicants are: (1) MuDanJiang Bosen Wood Industry Co., Ltd., (2) Huzhou Chenghang Wood Co., Ltd., (3) Hangzhou Hanje Tec Co., Ltd., (4) Nakahiro Jyou Sei Furniture (Dalian) Co., Ltd., (5) Shenyang Haobainian Wooden Co., Ltd., (6) Dalian Dajen Wood Co., Ltd., (7) HaiLin LinJing Wooden Products, Ltd., (8) Dun Hua Sen Tai Wood Co., Ltd., (9) Dunhua Jisheng Wood Industry Co., Ltd., (10) Hunchun Forest Wolf Industry Co., Ltd., (11) Guangzhou Panyu Southern Star Co., Ltd., (12) Nanjing Minglin Wooden Industry Co., Ltd., (13) Zhejiang Fudeli Timber Industry Co., Ltd., (14) Suzhou Dongda Wood Co., Ltd., (15) Guangzhou Pan Yu Kang Da Board Co., Ltd., (16) Kornbest Enterprises Ltd., (17) Metropolitan Hardwood Floors, Inc., (18) Zhejiang Longsen Lumbering Co., Ltd., (19) Xinyuan Wooden Industry Co., Ltd., (20) Dasso Industrial Group Co., Ltd., (21) Hong Kong Easoon Wood Technology Co., Ltd., (22) Armstrong Wood Products (Kunshan) Co., Ltd., (23) Baishan Huafeng Wooden Product Co., Ltd., (24) Changbai Mountain Development and Protection Zone Hongtu Wood Industry Co., Ltd., (25) Changzhou Hawd Flooring Co., Ltd., (26) Dalian Jiuyuan Wood Industry Co., Ltd., (27) Dalian Penghong Floor Products Co., Ltd., (28) Dongtai Fuan Universal Dynamics LLC, (29) Dunhua City Dexin Wood Industry Co., Ltd., (30) Dunhua City Hongyuan Wood Industry Co., Ltd., (31) Dunhua City Jisen Wood Industry Co., Ltd., (32) Dunhua City Wanrong Wood Industry Co., Ltd., (33) Fusong Jinlong Wooden Group Co., Ltd., (34) Fusong Qianqiu Wooden Product Co., Ltd., (35) GTP International, (36) Guangdong Yihua Timber Industry Co., Ltd., (37) HaiLin LinJing Wooden Products, Ltd., (38) Huzhou Fulinmen Imp & Exp. Co., Ltd., (39) Huzhou Fuma Wood Bus. Co., Ltd., (40) Jiafeng Wood (Suzhou) Co., Ltd., (41) Jiashan Hui Jia Le Decoration Material Co., Ltd., (42) Jilin Forest Industry Jinqiao Flooring Group Co., Ltd., (43) Karly Wood Product Limited, (44) Kunshan Yingyi-Nature Wood Industry Co., Ltd., (45) Puli Trading Limited, (46) Shanghai Eswell Timber Co. Ltd., (47) Shanghai Lairunde Wood Co., Ltd., (48) Shanghai New Sihe Wood Co., Ltd., (49) Shanghai Shenlin Corporation, (50) Shenzhenshi Huanwei Woods Co., Ltd., (51) Vicwood Industry (Suzhou) Co., Ltd., (52) Xiamen Yung De Ornament Co., Ltd., (53) Xuzhou Shenghe Wood Co., Ltd., (54) Yixing Lion-King Timber Industry Co., Ltd., (55) Jiangsu Simba Flooring Industry Co., Ltd, (56) Zhejiang Biyork Wood Co., Ltd., (57) Zhejiang Dadongwu GreenHome Wood Co., Ltd., (58) Zhejiang Desheng Wood Industry Co., Ltd., (59) Zhejiang Shiyou Timber Co., Ltd., (60) Zhejiang Tianzhen Bamboo & Wood Development Co., Ltd., (61) Chinafloors Timber (China) Co. Ltd., (62) Shanghai Lizhong Wood Products Co., Ltd., (63) Fine Furniture (Shanghai) Limited, (64) Huzhou Sunergy World Trade Co. Ltd., (65) Huzhou Jesonwood Co., Ltd., (66) A&W (Shanghai) Woods Co., Ltd., (67) Fu Lik Timber (HK) Company Limited, (68) Yekalon Industry, Inc./Sennorwell International Group (Hong Kong) Limited, (69) Kemian Wood Industry (Kunshan) Co., Ltd., (70) Dalian Kemian Wood Industry Co., Ltd., (71) Dalian Huilong Wooden Products Co., Ltd., (72) Jiangsu Senmao Bamboo and Wood Industry Co., Ltd., and (73) Real Wood Floors, LLC.

³⁴ The wholly foreign-owned Separate Rate Applicants are: (1) Jianfeng Wood (Suzhou) Co, Ltd; (2) Fu Lik Timber (HK) Company Limited; (3) Xiamen Yung De Ornament Co., Ltd; (4) Metropolitan Hardwood Floors, Inc.; (5) A&W (Shanghai) Woods Co., Ltd.; (6) Vicwood Industry (Suzhou) Co., Ltd.; (7) Armstrong Wood Products (Kunshan) Co., Ltd.; (8) Kunshan Yingyi-Nature Wood Industry Co., Ltd.; (9) Dongtai Fuan Universal Dynamics LLC; (10) Yixing Lion-King Timber Industry Co., Ltd.; (11) Chinafloors Timber (China) Co., Ltd.; and (12) Fine Furniture (Shanghai) Limited.

³⁵ See Preliminary Determination, 76 FR at 30661.

³⁶ See Memorandum to Christian Marsh, Deputy Assistant Secretary for Antidumping and Countervailing Duty Operations, from Trisha Tran, International Trade Analyst, Office 4, Multilayered Wood Flooring from the People's Republic of China: Request to Modify Customs Instructions. (July 28, 2011).

For the final determination, the Department continues to find that the evidence placed on the record of this investigation by the Separate Rate Applicants demonstrates both de jure and de facto absence of government control with respect to each company's respective exports of the merchandise under investigation. Thus, the Department continues to find that the Separate Rate Applicants are eligible for separate-rate status.

The separate rate is normally determined based on the weighted-average of the estimated dumping margins established for exporters and producers individually investigated, excluding zero and de minimis margins or margins based entirely on adverse facts available (“AFA”).³⁷ In this investigation, two of the individually investigated companies, Layo Wood, and the Samling Group, have estimated weighted-average dumping margins which are above de minimis and which are not based on total AFA. Therefore, because there are only two relevant weighted-average dumping margins for this final determination, using a weighted-average risks disclosure of business proprietary information. Accordingly, the Department has calculated the separate rate using a simple-average of these two margins, which is 3.31 percent.³⁸

³⁷ See section 735(c)(5)(A) of the Act.

³⁸ See Certain Cased Pencils From the People's Republic of China: Final Results of the Antidumping Duty Administrative Review, 75 FR 38980 (July 2010) at Comment 4.

Use of Facts Available and Adverse Facts Available

Section 776(a) of the Act provides that the Department shall apply facts available (“FA”) if (1) necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Section 776(b) of the Act further provides that the Department may use an adverse inference in applying FA when a party has failed to cooperate by not acting to the best of its ability to comply with a request for information. Such an adverse inference may include reliance on information derived from the petition, the final determination, a previous administrative review, or other information placed on the record.

PRC-Wide Entity

In the Preliminary Determination, the Department determined that certain PRC exporters/producers did not respond to the Department's requests for information including information pertaining to whether they were separate from the PRC-wide entity.³⁹ Thus, the Department has found that these PRC exporters/producers are part of the PRC-wide entity and the PRC-wide entity has not responded to our requests for information.⁴⁰ No additional information was placed on the record with respect to any of these companies after the preliminary determination. Because the PRC-wide entity did not provide the Department with requested information, pursuant to section 776(a)(2)(A) of the Act, the Department continues to find it appropriate to base the PRC-wide rate on FA.

³⁹ See Preliminary Determination, 76 FR at 30661.

⁴⁰ Id.

The Department determines that, because the PRC-wide entity did not respond to our request for information, the PRC-wide entity has failed to cooperate to the best of its ability. Therefore, pursuant to section 776(b) of the Act, the Department finds that, in selecting from among the FA, an adverse inference is appropriate for the PRC-wide entity.

Because the Department begins with the presumption that all companies within an NME country are subject to government control, and because only the mandatory respondents and the Separate Rate Applicants have overcome that presumption, the Department is applying a single antidumping rate to all other exporters of subject merchandise from the PRC. Such companies have not demonstrated entitlement to a separate rate.⁴¹ Accordingly, the PRC-wide entity rate applies to all entries of subject merchandise except for entries from Yuhua, Layo Wood, the Samling Group, and the Separate Rate Applicants.

⁴¹ See, e.g., Notice of Final Determination of Sales at Less Than Fair Market Value: Synthetic Indigo From the People's Republic of China, 65 FR 25706, 25707 (May 2, 2000).

Selection of the AFA Rate for the PRC-Wide Entity

In selecting a rate for AFA, the Department selects a rate that is sufficiently adverse “as to effectuate the purpose of the adverse facts available rule to induce respondents to provide the Department with complete and accurate information in a timely manner.” ⁴² Further, it is the Department's practice to select a rate that insures “that the party does not obtain a more favorable result by failing to cooperate than if it had cooperated fully.” ⁴³ It is the Department's practice to select as AFA the higher of the (a) highest margin alleged in the petition or (b) the highest calculated rate of any respondent in the investigation.⁴⁴ In order to determine the probative value of the margins in the petition for use as AFA for purposes of this final determination, we analyzed the U.S. prices and normal values for each of the individually investigated parties. Based on this analysis, we determined that while there were U.S. prices within the range of the prices contained in the petition, the normal value information contained in the petition does not have probative value for purposes of this final determination. The Department does not find the highest calculated rate of the mandatory respondents to be sufficiently adverse to act as the AFA rate. With respect to AFA, for the final determination, we have assigned the PRC-wide entity the rate of 58.84 percent, the highest calculated transaction-specific rate among mandatory respondents. No corroboration of this rate is necessary because we are relying on information obtained in the course of this investigation, rather than secondary information.⁴⁵

⁴² See Notice of Final Determination of Sales at Less than Fair Value: Static Random Access Memory Semiconductors From Taiwan, 63 FR 8909, 8932 (Feb. 23, 1998).

⁴³ See Brake Rotors from the People's Republic of China: Final Results and Partial Rescission of the Seventh Administrative Review; Final Results of the Eleventh New Shipper Review, 70 FR 69937, 69939 (Nov. 18, 2005)(quoting the Statement of Administrative Action accompanying the Uruguay Round Agreements Act, H. Doc. No. 316, 103d Cong., 2d Session at 870 (1994)).

⁴⁴ See, e.g., Seamless Refined Copper Pipe and Tube From the People's Republic of China: Final Determination of Sales at Less Than Fair Value, 75 FR 60725, 60729 (October 1, 2010).

⁴⁵ See 19 CFR 351.308(c) and (d) and section 776(c) of the Act; see also Final Determination of Sales at Less Than Fair Value and Affirmative Determination of Critical Circumstances, in Part: Light-Walled Rectangular Pipe and Tube from the People's Republic of China, 73 FR 35652, 35653 (June 24, 2008), and accompanying Issues and Decision Memorandum at 1.

The dumping margin for the PRC-wide entity applies to all entries of the merchandise under investigation except for entries of merchandise under investigation from the exporter/manufacturer combinations listed in the chart in the “Final Determination” section below.

Combination Rates

In the Initiation Notice, the Department stated that it would calculate combination rates for respondents that are eligible for a separate rate in this investigation.⁴⁶ This practice is described in Policy Bulletin 05.1, available at http://www.trade.gov/ia. In the Amended Preliminary Determination, the Department stated that it did not grant separate combination rates to Tak Wah Building Material (Suzhou) Co. Ltd. (“Tak Wah”) and Tech Wood International Ltd. (“Tech Wood”), the affiliated exporters on whose behalf Vicwood submitted a separate rate application, due to incomplete and conflicting information in Vicwood's previous responses.⁴⁷ On July 6, 2011, the Department received supplemental questionnaire responses from Vicwood supplying the clarifying information requested by the Department. As a result, the department is granting separate combination rates to exporters Tak Wah and Tech Wood for merchandise produced by Vicwood.

⁴⁶ See Initiation Notice, 75 FR at 22113-14.

⁴⁷ See Memorandum to Abdelali Elouaradia, Director, AD/CVD Operations, Office 4, through Charles Riggle, from Brandon Petelin and Erin Kearney, Preliminary Determination of Antidumping Duty Investigation on Multilayered Wood Flooring from the People's Republic of China: Allegations of Ministerial Errors, dated June 20, 2011, at 4-5.

Final Determination

The Department determines that the following dumping margins exist for the period April 1, 2010, through September 30, 2010:

Exporter | Producer | Weighted average margin
Zhejiang Layo Wood Industry Co., Ltd | Zhejiang Layo Wood Industry Co., Ltd | 3.98
The Samling Group ** | The Samling Group ** | 2.63
Zhejiang Yuhua Timber Co., Ltd | Zhejiang Yuhua Timber Co., Ltd | 0.00
Jiaxing Brilliant Import & Export Co., Ltd | Zhejiang Layo Wood Industry Co., Ltd | 3.31
MuDanJiang Bosen Wood Industry Co., Ltd | MuDanJiang Bosen Wood Industry Co., Ltd | 3.31
MuDanJiang Bosen Wood Industry Co., Ltd | Dun Hua Sen Tai Wood Co., Ltd | 3.31
Huzhou Chenghang Wood Co., Ltd | Huzhou Chenghang Wood Co., Ltd | 3.31
Hangzhou Hanje Tec Co., Ltd | Zhejiang Jiechen Wood Industry Co., Ltd | 3.31
Nakahiro Jyou Sei Furniture (Dalian) Co., Ltd | Nakahiro Jyou Sei Furniture (Dalian) Co., Ltd | 3.31
Shenyang Haobainian Wooden Co., Ltd | Shenyang Sende Wood Co., Ltd | 3.31
Shenyang Haobainian Wooden Co., Ltd | Shenyang Haobainian Wooden Co., Ltd | 3.31
Shenyang Haobainian Wooden Co., Ltd | Shanghai Demeijia Wooden Co., Ltd | 3.31
Dalian Dajen Wood Co., Ltd | Dalian Dajen Wood Co., Ltd | 3.31
HaiLin LinJing Wooden Products, Ltd | HaiLin LinJing Wooden Products, Ltd | 3.31
Dun Hua Sen Tai Wood Co., Ltd | Dun Hua Sen Tai Wood Co., Ltd | 3.31
Dunhua Jisheng Wood Industry Co., Ltd | Dunhua Jisheng Wood Industry Co., Ltd | 3.31
Hunchun Forest Wolf Industry Co., Ltd | Hunchun Forest Wolf Industry Co., Ltd | 3.31
Guangzhou Panyu Southern Star Co., Ltd | Guangzhou Jiasheng Timber Industry Co., Ltd | 3.31
Nanjing Minglin Wooden Industry Co., Ltd | Nanjing Minglin Wooden Industry Co., Ltd | 3.31
Zhejiang Fudeli Timber Industry Co., Ltd | Zhejiang Fudeli Timber Industry Co., Ltd | 3.31
Suzhou Dongda Wood Co., Ltd | Suzhou Dongda Wood Co., Ltd | 3.31
Guangzhou Pan Yu Kang Da Board Co., Ltd | Guangzhou Pan Yu Kang Da Board Co., Ltd | 3.31
Kornbest Enterprises Ltd | Guangzhou Pan Yu Kang Da Board Co., Ltd | 3.31
Metropolitan Hardwood Floors, Inc | Dalian Huilong Wooden Products Co., Ltd | 3.31
Metropolitan Hardwood Floors, Inc | Mudanjiang Bosen Wood Co., Ltd | 3.31
Metropolitan Hardwood Floors, Inc | Nakahiro Jyou Sei Furniture (Dalian) Co., Ltd | 3.31
Metropolitan Hardwood Floors, Inc | Hunchun Forest Wolf Wooden Industry Co., Ltd | 3.31
Metropolitan Hardwood Floors, Inc | Kemian Wood Industry (Kunshan) Co., Ltd | 3.31
Metropolitan Hardwood Floors, Inc | Shenyang Haobainian Wooden Co., Ltd | 3.31
Zhejiang Longsen Lumbering Co., Ltd | Zhejiang Longsen Lumbering Co., Ltd | 3.31
Xinyuan Wooden Industry Co., Ltd | Xinyuan Wooden Industry Co., Ltd | 3.31
Dasso Industrial Group Co., Ltd | Dasso Industrial Group Co., Ltd | 3.31
Hong Kong Easoon Wood Technology Co., Ltd | Dasso Industrial Group Co., Ltd | 3.31
Armstrong Wood Products (Kunshan) Co., Ltd | Armstrong Wood Products (Kunshan) Co., Ltd | 3.31
Baishan Huafeng Wooden Product Co., Ltd | Baishan Huafeng Wooden Product Co., Ltd | 3.31
Changbai Mountain Development and Protection Zone Hongtu Wood Industry Co., Ltd | Changbai Mountain Development and Protection Zone Hongtu Wood Industry Co., Ltd | 3.31
Changzhou Hawd Flooring Co., Ltd | Changzhou Hawd Flooring Co., Ltd | 3.31
Dalian Jiuyuan Wood Industry Co., Ltd | Dalian Jiuyuan Wood Industry Co., Ltd | 3.31
Dalian Penghong Floor Products Co., Ltd | Dalian Penghong Floor Products Co., Ltd | 3.31
Dongtai Fuan Universal Dynamics LLC | Dongtai Fuan Universal Dynamics LLC | 3.31
Dunhua City Dexin Wood Industry Co., Ltd | Dunhua City Dexin Wood Industry Co., Ltd | 3.31
Dunhua City Hongyuan Wood Industry Co., Ltd | Dunhua City Hongyuan Wood Industry Co., Ltd | 3.31
Dunhua City Jisen Wood Industry Co., Ltd | Dunhua City Jisen Wood Industry Co., Ltd | 3.31
Dunhua City Wanrong Wood Industry Co., Ltd | Dunhua City Wanrong Wood Industry Co., Ltd | 3.31
Fusong Jinlong Wooden Group Co., Ltd | Fusong Jinlong Wooden Group Co., Ltd | 3.31
Fusong Qianqiu Wooden Product Co., Ltd | Fusong Qianqiu Wooden Product Co., Ltd | 3.31
GTP International | Jiangsu Senmao Bamboo and Wood Industry Co., Ltd | 3.31
GTP International | Jiafeng Wood (Suzhou) Co., Ltd | 3.31
GTP International | Suzhou Dongda Wood Co., Ltd | 3.31
GTP International | Kemian Wood Industry (Kunshan) Co., Ltd | 3.31
Guangdong Yihua Timber Industry Co., Ltd | Guangdong Yihua Timber Industry Co., Ltd | 3.31
HaiLin LinJing Wooden Products, Ltd | HaiLin LinJing Wooden Products, Ltd | 3.31
Huzhou Fulinmen Imp & Exp. Co., Ltd | Huzhou Fulinmen Wood Floor Co., Ltd | 3.31
Huzhou Fuma Wood Bus. Co., Ltd | Huzhou Fuma Wood Bus. Co., Ltd | 3.31
Jiafeng Wood (Suzhou) Co., Ltd | Jiafeng Wood (Suzhou) Co., Ltd | 3.31
Jiashan Hui Jia Le Decoration Material Co., Ltd | Jiashan Hui Jia Le Decoration Material Co., Ltd | 3.31
Jilin Forest Industry Jinqiao Flooring Group Co., Ltd | Jilin Forest Industry Jinqiao Flooring Group Co., Ltd | 3.31
Karly Wood Product Limited | Karly Wood Product Limited | 3.31
Kunshan Yingyi-Nature Wood Industry Co., Ltd | Kunshan Yingyi-Nature Wood Industry Co., Ltd | 3.31
Puli Trading Ltd | Baiying Furniture Manufacturer Co., Ltd | 3.31
Shanghai Eswell Timber Co. Ltd | Shanghai Eswell Timber Co. Ltd | 3.31
Shanghai Lairunde Wood Co., Ltd | Shanghai Lairunde Wood Co., Ltd | 3.31
Shanghai New Sihe Wood Co., Ltd | Shanghai New Sihe Wood Co., Ltd | 3.31
Shanghai Shenlin Corporation | Shanghai Shenlin Corporation | 3.31
Shenzhenshi Huanwei Woods Co., Ltd | Shenzhenshi Huanwei Woods Co., Ltd | 3.31
Tak Wah Building Material (Suzhou) Co. Ltd | Vicwood Industry (Suzhou) Co., Ltd | 3.31
Tech Wood International Ltd | Vicwood Industry (Suzhou) Co., Ltd | 3.31
Xiamen Yung De Ornament Co., Ltd | Xiamen Yung De Ornament Co., Ltd | 3.31
Xuzhou Shenghe Wood Co., Ltd | Xuzhou Shenghe Wood Co., Ltd | 3.31
Yixing Lion-King Timber Industry Co., Ltd | Yixing Lion-King Timber Industry Co., Ltd | 3.31
Jiangsu Simba Flooring Industry Co., Ltd | Yixing Lion-King Timber Industry Co., Ltd | 3.31
Zhejiang Biyork Wood Co., Ltd | Zhejiang Biyork Wood Co., Ltd | 3.31
Zhejiang Dadongwu GreenHome Wood Co., Ltd | Zhejiang Dadongwu GreenHome Wood Co., Ltd | 3.31
Zhejiang Desheng Wood Industry Co., Ltd | Zhejiang Desheng Wood Industry Co., Ltd | 3.31
Zhejiang Shiyou Timber Co., Ltd | Zhejiang Shiyou Timber Co., Ltd | 3.31
Zhejiang Tianzhen Bamboo & Wood Development Co., Ltd | Zhejiang Tianzhen Bamboo & Wood Development Co., Ltd | 3.31
Chinafloors Timber (China) Co. Ltd | Chinafloors Timber (China) Co. Ltd | 3.31
Shanghai Lizhong Wood Products Co., Ltd., also known as The Lizhong Wood Industry Limited Company of Shanghai | Shanghai Lizhong Wood Products Co., Ltd., also known as The Lizhong Wood Industry Limited Company of Shanghai | 3.31
Fine Furniture (Shanghai) Limited | Fine Furniture (Shanghai) Limited | 3.31
Huzhou Sunergy World Trade Co. Ltd | Zhejiang Haoyun Wood Co., Ltd | 3.31
Huzhou Sunergy World Trade Co. Ltd | Nanjing Minglin Wooden Industry Co., Ltd | 3.31
Huzhou Sunergy World Trade Co. Ltd | Zhejiang AnJi XinFeng Bamboo & Wood Co., Ltd | 3.31
Huzhou Jesonwood Co., Ltd | Zhejiang Jeson Wood Co., Ltd | 3.31
Huzhou Jesonwood Co., Ltd | Huzhou Jesonwood Co., Ltd | 3.31
A&W (Shanghai) Woods Co., Ltd | A&W (Shanghai) Woods Co., Ltd | 3.31
A&W (Shanghai) Woods Co., Ltd | Suzhou Anxin Weiguang Timber Co., Ltd | 3.31
Fu Lik Timber (HK) Company Limited | Guangdong Fu Lin Timber Technology Limited | 3.31
Yekalon Industry, Inc./Sennorwell International Group (Hong Kong) Limited | Jilin Xinyuan Wooden Industry Co., Ltd | 3.31
Kemian Wood Industry (Kunshan) Co., Ltd | Kemian Wood Industry (Kunshan) Co., Ltd | 3.31
Dalian Kemian Wood Industry Co., Ltd | Dalian Kemian Wood Industry Co., Ltd | 3.31
Dalian Huilong Wooden Products Co., Ltd | Dalian Huilong Wooden Products Co., Ltd | 3.31
Jiangsu Senmao Bamboo and Wood Industry Co., Ltd | Jiangsu Senmao Bamboo and Wood Industry Co., Ltd | 3.31
PRC-wide Entity |  | 58.84
* de minimis.
** The Samling Group consists of the following companies: Baroque Timber Industries (Zhongshan) Co., Ltd., Riverside Plywood Corporation, Samling Elegant Living Trading (Labuan) Limited, Samling Riverside Co., Ltd., and Suzhou Times Flooring Co., Ltd.

Disclosure

We intend to disclose the calculations performed to parties in this proceeding within five days of the date of publication of this notice in accordance with 19 CFR 351.224(b).

Continuation of Suspension of Liquidation

In accordance with section 735(c)(1)(B) of the Act, the Department will instruct CBP to continue to suspend liquidation of all appropriate entries of multilayered wood flooring from the PRC as described in the “Scope of Investigation” section, entered, or withdrawn from warehouse, for consumption on or after May 26, 2011, the date of publication of the Preliminary Determination in the Federal Register. The Department will instruct CBP to require a cash deposit or the posting of a bond equal to the weighted-average amount by which the normal value exceeds U.S. price, as indicated above.

International Trade Commission Notification

In accordance with section 735(d) of the Act, we have notified the International Trade Commission (“ITC”) of the final affirmative determination of sales at LTFV. As the Department's final determination is affirmative, in accordance with section 735(b)(2) of the Act, the ITC will determine, within 45 days, whether the domestic industry in the United States is materially injured, or threatened with material injury, by reason of imports of multilayered wood flooring, or sales (or the likelihood of sales) for importation, of the subject merchandise. If the ITC determines that such injury does exist, the Department will issue an antidumping duty order directing CBP to assess, upon further instruction by the Department, antidumping duties on all imports of the subject merchandise entered, or withdrawn from warehouse, for consumption on or after the effective date of the suspension of liquidation.

Notification Regarding APO

This notice also serves as a reminder to the parties subject to administrative protective order (“APO”) of their responsibility concerning the disposition of propriety information disclosed under APO in accordance with 19 CFR 351.305. Timely notification of return or destruction of APO materials or conversion to judicial protective order is hereby requested. Failure to comply with the regulations and terms of an APO is a sanctionable violation.

This determination is issued and published in accordance with sections 735(d) and 777(i)(1) of the Act.

Dated: October 11, 2011.
Ronald K. Lorentzen,
Deputy Assistant Secretary for Import Administration.

Appendix I

Issues for Final Determination

General Issues

Comment 1: Financial Ratios

Comment 2: Adjustments to the Petitioner's Surrogate Ratio Calculations

Comment 3: Department's Rejection of Surrogate Value Submissions

Comment 4: Targeted Dumping

Comment 5: Double Remedy

Comment 6: Labor Cost

Comment 7: Whether To Add Domestic Brokerage and Handling Expenses to Material Inputs That Were Valued Using a Market Economy Purchase Price

Comment 8: Brokerage & Handling Adjustments To Account for Letter of Credit Costs

Comment 9: Certain Information Submitted by Petitioner in Surrogate Value Submission

Comment 10: Appropriateness of Countries Within a “GNI band” as Surrogate Value Sources

Comment 11: Separate-Rate Margin

Comment 12: Scope Related Issues

Comment 12.A: Exclusion Requests for Plywood Panels or Veneer

Comment 12.B: Strand-Woven Lignocellulosic Flooring

Comment 12.C: Scope Language Regarding HTSUS Subheadings

Comment 12.D: Continued Requests for Certain Exclusions

General Surrogate Value Issues

Comment 13: Surrogate Value for Plywood

Comment 14: Surrogate Value for Tropical Face Veneer

Comment 15: Surrogate Value for Non-Coniferous, Non-Tropical (“NCNT”) Face Veneer

Comment 16: Surrogate Value for NCNT Core Veneer

Comment 17: Surrogate Value for NCNT Logs and Tropical Logs

Comment 18: Domestic Truck Rate

Comment 19: Surrogate Value for Paint Inputs—the Samling Group and Layo Wood

Comment 20: Surrogate Value for HDF

Mandatory Respondent Specific Issues

Yuhua

Comment 21: Yuhua Affiliation

Layo Wood

Comment 22: Layo Wood-Jiaxing Brilliant Affiliation

Comment 23: Whether the Wood Scrap Offset for Layo Wood Should Be Denied

Comment 24: Surrogate Value for Layo Wood's Byproducts

Comment 25: Surrogate Value for Layo Wood's Glue

Comment 26: Surrogate Value for Pigment

Comment 27: Surrogate Value for Printing Ink

Comment 28: Surrogate Value for Paper Manual

Comment 29: Surrogate Value for Tape

Comment 30: Density Conversion for Layo Wood's Packing Fiberboard

The Samling Group

Comment 31: Value of Certain of the Samling Group's Veneer Inputs

Comment 32: Surrogate Value for the Samling Group's Glue Input

Comment 33: Surrogate Value for Labels

Comment 34: Surrogate Value for Cellophane Tape

Comment 35: Surrogate Value for Corrugated Cardboard Carton

Comment 36: Post-Verification Adjustments to the Samling Group's Reported U.S. Sales Data

Comment 36.A: Adjustment to Gross Unit Price

Comment 36.B: U.S. Duties

Comment 37: SGUSA's Transportation Expenses

Comment 38: Inland Freight—Warehouse to Customer

Comment 39: Other Revenue for U.S. Inland Freight

Comment 40: Indirect Selling Expense Ratio of Affiliated Reseller

Comment 41: SGUSA's Indirect Selling Expense Ratio

Other Issues

Comment 42: Correction of Lizhong's Name

Comment 43: Whether the Department Should Have Selected Fine Furniture as a Voluntary Respondent

[FR Doc. 2011-26932 Filed 10-17-11; 8:45 am]

BILLING CODE 3510-DS-P